DEPARTMENT OF COMMERCE

National Oceanic and Atmospheric Administration

RIN 0648-XL85

Notice of Availability of a Draft Environmental Impact Statement/Environmental Impact Report for the Proposed Replacement of the National Oceanic and Atmospheric Administration's Southwest Fisheries Science Center Located in La Jolla, CA

AGENCY: National Oceanic and Atmospheric Administration (NOAA), Department of Commerce.

ACTION: Notice of Availability of a National Environmental Policy Act (NEPA) Draft Environmental Impact Statement (EIS) and a California Environmental Quality Act (CEQA) Environmental Impact Report (EIR); request for comments.

SUMMARY: NOAA announces the availability for comment a joint Draft EIS/EIR analyzing the environmental impacts of replacing its Southwest Fisheries Science Center (SWFSC) near the Scripps Institution of Oceanography (SIO) within the University of California at San Diego (UCSD) campus in La Jolla, California.

Publication of this notice is to request public comment on the Draft EIS/EIR and its associated environmental findings and to provide information as to how to participate.

DATES: A public meeting will be held on the following date: Tuesday, December 9, 2008—6 p.m. meeting start time, Southwest Fisheries Science Center, Building A, Large Conference Room, 8604 La Jolla Shores Drive, La Jolla, CA 92037.

ADDRESSES: Written comments on the Draft EIS/EIR must be postmarked or transmitted via e-mail by January 12, 2009. Comments should be submitted to Anne Elston, Environmental Research Analyst, SRI International, 333 Ravenswood Avenue, G 234, Menlo Park, CA 94025-3493; e-mail Anne.Elston@sri.com.

FOR FURTHER INFORMATION CONTACT: Anne Elston, Environmental Research Analyst, SRI International, (650) 859-2693; e-mail Anne.Elston@sri.com.

SUPPLEMENTARY INFORMATION: The National Marine Fisheries Services (NMFS) is responsible for the management, conservation, and protection of living marine resources within the U.S. Exclusive Economic Zone. The SWFSC in La Jolla, California, manages and conducts research involving Pacific fisheries and marine mammal research for the protection and management of these resources throughout Western Pacific and Antarctica. The existing SWFSC facility, built in 1964, is currently adjacent to a coastal bluff that is undergoing severe erosion and retreat. NOAA proposes to construct a new SWFSC building to replace its existing NMFS administrative and marine research facilities currently located in La Jolla, California. A minimum of two existing at-risk SWFSC structures would be removed and the property currently used by NOAA would be returned to UCSD for other appropriate uses.

NOAA is the lead Federal agency for implementation of the NEPA. The University of California is the lead agency under the CEQA. The existing and preferred sites for the SWFSC headquarters are at the UCSD campus. The NMFS, SIO and other marine research organizations conduct independent and joint research at the SWFSC and its salt water laboratory facilities.

The proposed project will require construction of a new facility to support SWFSC administrative and marine research operations. The preferred site will enable NMFS, SIO, and others to continue collaboration within a wide range of programmatic marine research disciplines. NOAA, in cooperation with UCSD, has prepared a joint EIS/EIR to analyze the environmental impacts of relocating the SWFSC facilities at UCSD.

Other alternative actions considered were: Use of other NOAA facility locations in California and other Pacific Coast states; use of alternative sites at or adjacent to SIO for collaborative research; and use of existing alternative NOAA facilities and properties away from UCSD.

This joint Draft EIS/EIR analyzes environmental impacts that may result from construction and/or operation of the proposed facilities. The environmental issues addressed in the Draft EIS/EIR include: Land use and coastal zone management, geology, hydrology and water resources; biological resources and protected species; utilities and public services; transportation and traffic circulation, recreational resources; air quality; noise and vibration; visual effects and aesthetics; cultural resources; and socioeconomics and environmental justice; public services and utilities; population and housing; solid waste and hazardous materials; and cumulative effects.

Copies of the draft EIS/EIR have been made available at the UCSD library, at the existing SWFSC, and at La Jolla Public Library.

Decision Process

Following due consideration of all comments received during the official comment period, a Final EIS/EIR will be prepared. The government decision as to how to proceed will be announced in a Record of Decision (ROD) to be issued no earlier than 30 days after issuance of the Final EIS/EIR. The official responsible for a final decision is William F. Broglie, Chief Administrative Officer, National Oceanic and Atmospheric Administration.

Dated: November 18, 2008.
Sandra R. Manning,
Acting Chief Administrative Officer, Office of the Chief Administrative Officer, National Oceanic and Atmospheric Administration.

[FR Doc. E8-27788 Filed 11-21-08; 8:45 am]

BILLING CODE 3510-12-P